DEPARTMENT OF ENERGY

Federal Energy Regulatory Commission

[Docket No.CP07-431-000]

Western Gas Resources, Inc., and Pioneer Natural Resources (USA), Inc.; Notice of Application

August 21, 2007.

Take notice that on August 7, 2007, as supplemented on August 20, 2007, Western Gas Resources, Inc. (WGR), 1099 18th Street, Suite 1200, Denver, Colorado 80202 and Pioneer Natural Resources (USA), Inc. (Pioneer), 1400 Williams Square West, 5205 North O'Connor Boulevard, Irving, Texas, filed in Docket No. CP07-431-000, an application pursuant to section 7(b) of the Natural Gas Act (NGA) and Part 157 of the Commission's Regulations, for an order permitting and approving WGR's abandonment by conveyance to Atlas Pipeline Mid-Continent WestTex, LLC (WestTex) of WGR's interest in certain facilities referred to as the Midkiff Line located in Regan and Upton Counties, Texas, all as more fully set forth in the application which is on file with the Commission and open to public inspection.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

On June 22, 2007, the Commission issued a certificate to WGR and Pioneer, jointly, in Docket Nos. CP06-385-000 and -001, to operate and maintain the Midkiff Line. Pioneer is also a co-applicant with WestTex in a related application filed in Docket No. CP07-432-000 requesting a joint certificate to operate and maintain the Midkiff Line upon the abandonment of WGR's interest in the line by conveyance to WestTex.

Any questions regarding this application should be directed to Sherri Manuel, Western Gas Resources, Inc., P.O. Box 1330, Houston, Texas 77251-1330, or phone (832) 636-1000.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a) (1) (iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: September 12, 2007.

Kimberly D. Bose,
Secretary.

[FR Doc. E7-16954 Filed 8-27-07; 8:45 am]

BILLING CODE 6717-01-P